DEPARTMENT OF ENERGY

Federal Energy Regulatory Commission

[Docket No. RP01-73-000]

Southwest Gas Transmission Company, A Limited Partnership; Notice of Proposed Changes in FERC Gas Tariff

November 3, 2000.

Take notice that on October 31, 2000, Southwest Gas Transmission Company, A Limited Partnership (SGTC) tendered for filing as part of its FERC Gas Tariff, First Revised Volume No. 2, the following tariff sheets to become effective December 1, 2000.

First Revised Sheet No. 4

Original Sheet No. 28A

SGTC states that the proposed changes would increase revenues from jurisdictional service by $121,138 based on the 12-month period ending August 31, 2000, as adjusted.

SGTC indicates that the principal items of cost changes producing its deficiency are: (1) Increases in plant and related items due to the construction of facilities to establish an interconnection with Transwestern Pipeline Company; and (2) the incurrence of additional operation and maintenance expenses.

SGTC states that it has served copies of its filing on its affected customer and interested state regulatory commission.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28754 Filed 11-8-00; 8:45 am]

BILLING CODE 6717-01-M